DEPARTMENT OF TRANSPORTATION

Federal Highway Administration

Notice of Final Federal Agency Actions on the Interstate 64/High Rise Bridge Corridor Study in Chesapeake, Virginia

AGENCY: Federal Highway Administration (FHWA), DOT.

ACTION: Notice of Limitation on Claims for Judicial Review of Actions by FHWA

SUMMARY: This notice announces actions taken by the FHWA that are final within the meaning of 23 U.S.C. 139(l)(1). The actions relate to the widening of Interstate 64 for approximately eight miles between the I-464 Interchange and the I-664/I-264 Interchange in the City of Chesapeake, Virginia. The widening project includes the replacement of the High Rise Bridge over the Elizabeth River. Those actions grant licenses, permits, and approvals for the project.

DATES: By this notice, the FHWA is advising the public of final agency actions subject to 23 U.S.C. 139(l)(1). A claim seeking judicial review of the Federal agency actions on the project will be barred unless the claim is filed on or before April 6, 2017. If the Federal law that authorizes judicial review of a claim provides a time period of less than 150 days for filing such claim, then that shorter time period still applies.

FOR FURTHER INFORMATION CONTACT: For FHWA: Mr. Mack Frost, Planning and Environmental Specialist, FHWA Virginia Division, 400 North 8th Street, Richmond, Virginia, 23219; telephone: (804) 775-3352; email: Mack.frost@dot.gov. The FHWA Virginia Division Office's normal business hours are 8:00 a.m. to 4:30 p.m. (Eastern Time). For the Virginia Department of Transportation: Mr. Scott Smizik, 1401 East Broad Street, Richmond, Virginia 23219; email: Scott.Smizik@vdot.virginia.gov; telephone: (804) 371-4082. The Virginia Department of Transportation's normal business hours are 7:00 a.m. to 4:00 p.m.

SUPPLEMENTARY INFORMATION: Notice is hereby given that FHWA has taken final agency actions subject to 23 U.S.C. 139(l)(1) by issuing licenses, permits, and approvals for the following project in the State of Virginia: The widening of Interstate 64 for approximately eight miles between the I-464 Interchange and I-664/I-264 in the City of Chesapeake, Virginia. The project would involve constructing two additional lanes of capacity in each direction including the construction of a new bridge and replacement of the existing High Rise Bridge. The actions taken by FHWA, and the laws under which such actions were taken, are described in the Environmental Assessment (EA), the Request for the Finding of No Significant Impact (FONSI) that included a Revised EA, and the FONSI. The EA was signed on October 3, 2014. The FONSI was issued on August 22, 2016. The EA, Request for the FONSI, and FONSI can be viewed on the project's internet site at http://virginiadot.org/projects/hamptonroads/i-64_southside__high_rise_bridge_phased_construction.asp.

These documents and other project records are also available by contacting FHWA or the Virginia Department of Transportation at the phone numbers and addresses listed above. This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303; 23 U.S.C. 138].

4. Historic and Cultural Resources: Section 106 of the National Historic Preservation Act of 1966, as amended [16 U.S.C. 470(f) et seq.].

5. Social and Economic: Farmland Protection Policy Act [7 U.S.C. 4201-4209].

(Catalog of Federal Domestic Assistance Program Number 20.205, Highway Planning and Construction. The regulations implementing Executive Order 12372 regarding intergovernmental consultation on Federal programs and activities apply to this program.)

Authority: 23 U.S.C. 139(l)(1).

Dated: November 1, 2016.
John Simkins,
Planning and Environment Team Leader, Richmond, Virginia.

[FR Doc. 2016-26812 Filed 11-4-16; 8:45 am]

BILLING CODE 4910-RY-P